DEPARTMENT OF THE INTERIOR

Minerals Management Service

Alaska Region, Outer Continental Shelf, Beaufort Sea Planning Area, Oil and Gas Lease Sale 195 (2005)

AGENCY: Minerals Management Service (MMS), Interior.

ACTION: Notice of Availability of an Environmental Assessment (EA) and Finding of No Significant Impact (FONSI).

SUMMARY: The Minerals Management Service has prepared an environmental assessment for proposed Alaska Region Outer Continental Shelf (OCS) Beaufort Sea Planning Area Lease Sale 195. In this EA, OCS EIS/EA MMS 2004-028, MMS reexamined the potential environmental effects of the proposed action and its alternatives based on any new information regarding potential impacts and issues that were not available at the time the Alaska Region OCS Beaufort Sea Planning Area Oil and Gas Lease Sales 186, 195, and 202, Final Environmental Impact Statement, Volumes I through IV (multiple-sale EIS) was completed in February 2003. The MMS also prepared a Finding of No Significant Impact.

FOR FURTHER INFORMATION CONTACT: Minerals Management Service, Alaska OCS Region, 949 East 36th Avenue, Anchorage, Alaska 99508-4364, Mr. Fred King, telephone (907) 271-6696.

SUPPLEMENTARY INFORMATION: Proposed Beaufort Sea Planning Area Lease Sale 195 is the second Beaufort Sea Planning Area lease sale scheduled in the Outer Continental Shelf Oil and Gas Leasing Program: 2002-2007 (5-Year Program). The multiple-sale EIS analyzed the effects of three lease sales considering resource estimates, project exploration and development activities, and impact-producing factors for each of the proposed Beaufort Sea Planning Area lease sales. The resource estimates and level of activities projected for proposed Lease Sale 195 remains essentially the same as examined in the multiple-sale EIS. No new significant impacts were identified for proposed Lease Sale 195 that were not already assessed in the multiple-sale EIS. As a result, MMS determined that a supplemental EIS is not required and prepared a FONSI.

EA Availability: To obtain a copy of the EA and FONSI, you may contact the Minerals Management Service, Alaska OCS Region, Attention: Ms. Nikki Lewis, Resource Center, 949 East 36th Avenue, Room 330, Anchorage, Alaska, 99508-4363, telephone (907) 271-6438 or 1-800-764-2627. You may also view the EA on the MMS website at http://www.mms.gov/alaska.

Written Comments: Interested parties may submit their written comments on this EA/FONSI until 30 days after the publication of this notice, to the Regional Director, Alaska OCS Region, Minerals Management Service, 949 East 36th Avenue, Room 308, Anchorage, Alaska 99509-4363, or by electronic mail to akeis@mms.gov. Our practice is to make comments, including names and home addresses of respondents available for public review. An individual commenter may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses.

Dated: July 2, 2004.
Thomas A. Readinger,
Associate Director for Offshore Minerals Management.

[FR Doc. 04-16904 Filed 7-23-04; 8:45 am]

BILLING CODE 4310-MR-P